DEPARTMENT OF STATE

[Public Notice: 9779]

Notice of Public Meeting

The Department of State will conduct an open meeting at 9:00 a.m. on November 9, 2016, in Room 5L18-01 of the Douglas A. Munro Coast Guard Headquarters Building at St. Elizabeth's, 2703 Martin Luther King Jr. Avenue SE., Washington, DC 20593. The primary purpose of the meeting is to prepare for the one hundred and seventeenth session of the International Maritime Organization's (IMO) Council to be held at the IMO Headquarters, United Kingdom, December 5-9, 2016.

The agenda items to be considered include:

—Adoption of the agenda

—Report of the Secretary-General on credentials

—Rules of Procedure of the Council

—Strategy, planning and reform

—Resource management (Human resource matters, report on investments, budget considerations for 2016-2017, Results-based budget: Outline of budgetary implications for 2018-2019)

—IMO Member State Audit Scheme

—Consideration of the report to the Marine Environmental Protection

—Consideration of the report of the Technical Cooperation Committee

—Technical Cooperation Fund: Report on activities of the 2015 programme

—IMO International Maritime Law Institute

—Report on the 38th Consultative Meeting of Contracting Parties to the London Convention 1972 and the 11th Meeting of Contracting Parties to the 1996 Protocol to the London Convention

—Protection of vital shipping lanes

—Periodic review of administrative requirements in mandatory IMO instruments

—Principles to be considered in the review of existing requirements and the development of new requirements

—External relations (With the U.N. and the specialized agencies, Joint Inspection Unit, relations with intergovernmental organizations, relations with non-governmental organizations, World Maritime Day, Report of the Day of the Seafarer, and IMO Maritime Ambassador Scheme)

—Report on the status of the convention and membership of the Organization

—Report on the status of conventions and other multilateral instruments in respect of which the Organization performs functions

—Place, date and duration of the next two sessions of the Council and substantive items for inclusion in the provisional agendas for the next two sessions of Council (C 118 and C 119)

—Supplementary agenda items, if any

Members of the public may attend this meeting up to the seating capacity of the room. To facilitate the building security process, and to request reasonable accommodation, those who plan to attend should contact the meeting coordinator, LCDR Tiffany Duffy, by email at Tiffany.A.Duffy@uscg.mil, by phone at (202) 372-1362, by fax at (202) 372-1925, or in writing at 2703 Martin Luther King Jr. Ave. SE., Stop 7509, Washington, DC 20593-7509 not later than November 2, 2016. Requests made after November 2, 2016 might not be able to be accommodated.

Please note that due to security considerations, two valid, government issued photo identifications must be presented to gain entrance to Coast Guard Headquarters. It is recommended that attendees arrive to Coast Guard Headquarters no later than 30 minutes ahead of the scheduled meeting for the security screening process. Coast Guard Headquarters is accessible by taxi and public transportation. Parking in the vicinity of the building is extremely limited. Additional information regarding this and other IMO public meetings may be found at: www.uscg.mil/imo.

Dated: October 21, 2016.
Jonathan W. Burby,
Coast Guard Liaison Officer, Office of Ocean and Polar Affairs, Department of State.

[FR Doc. 2016-26716 Filed 11-3-16; 8:45 am]

BILLING CODE 4710-09-P